ENVIRONMENTAL PROTECTION AGENCY

[OPPTS-00331; FRL-6827-2]

Pollution Prevention Grants and Announcement of Financial Assistance Programs Eligible for Review; Notice of Availability

AGENCY: Environmental Protection Agency (EPA).

ACTION: Notice.

SUMMARY: EPA expects to have approximately $5 million available in fiscal year 2002 grant/cooperative agreement funds under the Pollution Prevention (P2) grant program. Grants/cooperative agreements will be awarded under the authority of the Pollution Prevention Act of 1990. The Pollution Prevention Act and 40 CFR part 35, subpart B authorize EPA to award grant funds to State, Tribes, and Intertribal Consortia programs that address the reduction or elimination of pollution across environmental media (air, land, and water) and to strengthen the efficiency and effectiveness of State technical assistance programs in providing source reduction information to businesses. This notice describes the procedures and criteria for the award of these grants.

FOR FURTHER INFORMATION CONTACT: For general information about the grant program contact: Christopher Kent, Pollution Prevention Division (7409), Office of Pollution Prevention and Toxics, Environmental Protection Agency, 1200 Pennsylvania Avenue, NW., Washington, DC 20460; telephone (202) 564-8842; e-mail address: kent.christopher@epa.gov.

For technical and regionally specific information: The EPA Regional Pollution Prevention Coordinator listed under Unit X. of this notice.

SUPPLEMENTARY INFORMATION:

I. General Information

A. Does this Action Apply to Me?

This action is directed to States (including state universities), Tribes and Intertribal Consortia. This notice may, however, be of interest to local governments, private universities, private nonprofit entities, private businesses, and individuals who are not eligible for this grant program. If you have any questions regarding the applicability of this action to a particular entity, contact the technical person listed under FOR FURTHER INFORMATION CONTACT.

B. How Can I Get Additional Information, Including Copies of this Document or Other Related Documents?

You may obtain electronic copies of this document and certain other related documents that might be available electronically, from the EPA Home Page at http://www.epa.gov/. To access this document, on the Home Page select “Laws and Regulations” and then look up the entry for this document under the Federal Register—Environmental Documents. You can also go directly to the Federal Register listings at http://www.epa.gov/fedrgst. These documents will also be available at the EPA P2 web site http://www.epa.gov/P2.

II. Background of the Pollution Prevention Grant Program

More than $75 million has been awarded to over 100 State and Tribal organizations under EPA's multimedia pollution prevention grant program, since its inception in 1989. During the past 12 years, P2 grant funds have established and enabled State and Tribal programs to implement a wide range of pollution prevention activities. P2 grants provide economic benefits to small businesses by funding State technical assistance programs focused on helping the businesses develop more efficient production technologies and operate more cost effectively.

The goal of the P2 grant program is to assist businesses and industries in identifying better environmental strategies and solutions for reducing waste at the source. The majority of the P2 grants fund State-based projects in the areas of technical assistance and training, education and outreach, regulatory integration, data collection and research, demonstration projects, and recognition programs.

In November 1990, the Pollution Prevention Act of 1990 (the Act) (Public Law 101-508) was enacted, establishing as national policy that pollution should be prevented or reduced at the source whenever feasible.

1. Section 6603 of the Act defines source reduction as any practice that:

i. Reduces the amount of any hazardous substance, pollutant, or contaminant entering any waste stream or otherwise released into the environment (including fugitive emissions) prior to recycling, treatment, or disposal.

ii. Reduces the hazards to public health and the environment associated with the release of such substances, pollutants, or contaminants.

EPA further defines pollution prevention as the use of other practices that reduce or eliminate the creation of pollutants through increased efficiency in the use of raw materials, energy, water, or other resources, or protection of natural resources, or protection of natural resources by conservation.

2. Section 6605 of the Act and 40 CFR part 35, subpart B authorizes EPA to make matching grants to promote the use of source reduction techniques by businesses. In evaluating grant applications, the Act directs EPA to consider whether the proposed State program will:

i. Make specific technical assistance available to businesses seeking information about source reduction opportunities, including funding for experts to provide onsite technical advice and to assist in the development of source reduction plans.

ii. Target assistance to businesses for which lack of information is an impediment to source reduction.

iii. Provide training in source reduction techniques.

III. Availability of FY 2002 Funds

EPA expects to have approximately $5 million in grant/cooperative agreement funds available for FY 2002-2003 pollution prevention activities. The Agency has delegated grant making authority to the EPA regional offices. EPA regional offices are responsible for the solicitation of interest and the screening of proposals.

In addition to the statutory criteria discussed in Unit II., all applicants must address all five of the national program criteria listed under Unit VI.2.ii. EPA invites applicants to submit proposals that make the case for how their work will address P2 priorities on the national, Tribal, regional and State level. Interested applicants should contact their EPA Regional Pollution Prevention Coordinator, listed under Unit X. for more information.

The 2002 Pollution Prevention Grant Guidance is located at http://www.epa.gov/p2/programs/ppis.htm.

IV. Catalogue of Federal Domestic Assistance

The number assigned to the P2 grant program in the Catalogue of Federal Domestic Assistance is 66.708 (formerly 66.900).

V. Matching Requirements

States, Tribes, and Intertribal Consortia recipients of Pollution Prevention grants under section 6605 of the PPA must provide at least 50% of the total allowable project cost. For example, the Federal government will provide half of the total allowable cost of the project, and the recipient will provide the other half. Recipients may meet the match requirements by allowable costs incurred by the grantee (often referred to as “in-kind goods or services”) or the value of third party in-kind contributions consistent with 40 CFR 31.24. If a Tribe or Intertribal Consortium is selected for award of a Pollution Prevention Grant (PPG) and the Tribe includes the funds in a Performance Partnership Grant awarded under 40 CFR part 35, subpart B, the required Tribal match for the Pollution Prevention portion of the PPG will be reduced to 5% of the allowable Pollution Prevention project cost for the first 2 years of the PPG grant.

VI. Eligibility

1. Applicants. Eligible applicants for purposes of funding under this program include the 50 States, the District of Columbia, the U.S. Virgin Islands, the Commonwealth of Puerto Rico, any territory of or possession of the United States, any agency or instrumentality of a State including State universities, and Indian tribes that meet the requirement for treatment in a manner similar to a State at 40 CFR 35.663 and Intertribal Consortia that meet the requirements at 40 CFR 35.504. Local governments, private universities, private nonprofit, private businesses, and individuals are not eligible for funding. Eligible applicants are encouraged to establish partnerships with business and other environmental assistance providers to seamlessly deliver pollution prevention assistance. Successful applicants will be those that best meet the evaluation criteria in this unit. In many cases, this is likely to be accomplished through partnerships.

2. Activities and criteria—i. General. The purpose of the P2 grant program is to support the establishment and expansion of State and Tribal multimedia pollution prevention programs. EPA specifically seeks to build pollution prevention capabilities or to test, innovative pollution prevention approaches and methodologies. Funds awarded under the P2 grant program must be used to support pollution prevention programs that address the transfer and reduction of potentially harmful pollutants across environmental media: air, water, and land. Programs should reflect comprehensive and coordinated pollution prevention planning and implementation efforts State-wide.

ii. 2002 National program criteria. This section describes the five national program criteria EPA will use to evaluate proposals under the P2 grant program. In addition to the statutory criteria and the national program criteria, there may be regionally specific criteria that the proposing activities are also required to address. For more information on the EPA regional requirements, applicants should contact their EPA Regional Pollution Prevention Coordinator, listed under Unit X. As well as ensuring that the proposed activities meet EPA's definition of pollution prevention, the applicant's proposal must include how the applicant will address the following five activities:

a. Promote multimedia pollution prevention. Applicants should identify how projects will encourage source reduction to actively prevent pollution across environmental media: air, water, and land. Programs should reflect comprehensive and coordinated pollution prevention planning and implementation efforts. Pollution prevention programs can develop multimedia pollution prevention activities which provide technical assistance to businesses, institutionalize multimedia pollution prevention as an environmental management priority, or initiate demonstration projects that test and support innovative pollution prevention approaches and methodologies.

b. Advance environmental goals. EPA believes that State and Tribal pollution prevention programs have an unique opportunity to promote pollution prevention, especially through the environmental performance agreements. By developing applications that support stated environmental goals, pollution prevention programs can help ensure that States and Tribes achieve objectives through a cost-effective preventive approach. Pollution prevention programs will continue to be valuable to top management if they can demonstrate how their actions will help advance stated goals. EPA would like to ensure that pollution prevention is integrated and that the funds provide a service that supports the State's or Tribes' strategic plan. EPA will not fund any projects developed apart from the stated strategic plan.

c. Promote accomplishments within the State's environmental programs. EPA realizes the importance of being able to document the effectiveness of the program back to the affected media office. EPA added this application criteria to create the necessary link between the regulatory program and the pollution prevention program activities to ensure that the affected offices know the good work that is being done within their sectors/programs/geographic areas. By periodically documenting the proposed activities' accomplishments, grantees will help media program managers understand the benefits of their delivered services. By creating this positive feedback mechanism to the regulatory program, the grantee can market their accomplishments and help promote the sustainability of the P2 program.

d. Promote partnerships. For the past 6 years, EPA has required P2 grant applicants to identify major environmental assistance providers in their area and to work with these organizations to educate businesses on pollution prevention. EPA believes that pollution prevention programs who do not develop a strong relationship with other environmental assistance providers will face difficulties accessing State and Federal resources in the future.

EPA continues to seek more cooperation among pollution prevention programs and the other environmental and business assistance providers at the State level. These can include university-based technical assistance and cooperative extension programs, and other assistance programs offered within the State. Partnerships are also encouraged with regional and national programs such as the Pollution Prevention Resource Exchange (P2Rx) centers, National Institute of Standards and Technology (NIST) programs, Office of Enforcement and Compliance Assistance (OECA) Compliance Assistance Centers, EPA's Small Business Assistance Programs (SBAPs), etc.

By developing such partnerships, EPA would like to ensure that pollution prevention programs leverage these outside expertise. This partnership will also reduce the need for other environmental assistance providers to develop their own expertise, duplicating effort.

e. Identify measures of success. Applicants are encouraged to identify how and what criteria they are using to track the effectiveness of the activity. Measures of success could be measures of direct environmental improvement or linked to such measures. For example, success could be identified by demonstrating a direct link between the project's activities and quantifiable reductions in pollution generated or in the natural resources used. Many of the EPA regional offices have negotiated with their States specific measurement structures which may provide appropriate frameworks for measuring the effectiveness of pollution prevention programs.

3. Program management. Awards for FY 2002 funds will be managed through the EPA regional offices. Applicants should contact their EPA Regional Pollution Prevention Coordinator, listed under Unit X. or view the 2002 Grant Guidance located at http://www.epa.gov/p2/programs/ppis.htm to obtain specific regional requirements and deadlines for submitting proposals. National funding decisions will be made by June 2002.

VII. Proposal Narrative Format

The proposed work plan must meet the requirements for an approvable work plan at 40 CFR 35.107 and 35.507.

VIII. Applicable Regulations

State applicants and recipients of Pollution Prevention Grants are subject to the requirements of 40 CFR parts 31 and 35, subpart A. Tribal and Intertribal Consortia applicants and recipients of Pollution Prevention Grants are subject to the requirements of 40 CFR parts 31 and 35, subpart B.

IX. Reporting

The work plans and reporting must be consistent with the requirements of 40 CFR 35.107, 35.115, 35.507, and 35.515.

The grantee, along with the Regional Project Officer will develop a process for jointly evaluating and reporting progress and accomplishments under the work plan (see 40 CFR 35.115 and 35.515). A description of the evaluation process and a reporting schedule must be included in the work plan (see 40 CFR 35.107(b)(2)(iv) and 35.507(b)(2)(iv)).

The evaluation process must provide for:

(1) A discussion of accomplishments as measured against work plan commitments.

(2) A discussion of the cumulative effectiveness of the work performed under all work plan components.

(3) A discussion of existing and potential problem areas.

(4) Suggestions for improvement, including, where feasible, schedules for making improvements.

EPA's Pollution Prevention Division has created an optional progress report format to facilitate national reporting on status of pollution prevention grant activities. A copy of the report format is included on the PPIS page of the P2 web site (http://www.epa.gov/p2/ppis.htm). This progress report format is not required but has been used in several States for the past year.

X. Regional Pollution Prevention Coordinators

Region I: (Connecticut, Maine, Massachusetts, New Hampshire, Rhode Island, Vermont) Abby Swaine, 1 Congress St., Suite 1100 (SPN), Boston, MA 02203, (617) 918-1841, e-mail: swaine.abby@epa.gov.

Region II: (New Jersey, New York, Puerto Rico, Virgin Islands) Deborah Freeman (SPMMB), 290 Broadway, 25th Floor, New York, NY 10007, (212) 637-3730, e-mail: freeman.deborah@epa.gov.

Region III: (Delaware, Maryland, Pennsylvania, Virginia, West Virginia, District of Columbia) Lorna Rosenberg, (3E100), 1650 Arch St., Philadelphia PA 19103-2029, (215) 814-5389, e-mail: rosenberg.lorna@epa.gov.

Region IV: (Alabama, Florida, Georgia, Kentucky, Mississippi, North Carolina, South Carolina, Tennessee) Dan Ahern, Atlanta Federal Center, 61 Forsyth St., SW., Atlanta, GA 30303, (404) 562-9028, e-mail: ahern.dan@epa.gov.

Region V: (Illinois, Indiana, Michigan, Minnesota, Ohio, Wisconsin) Phil Kaplan, (DW-8J), 77 West Jackson Blvd., Chicago, IL 60604-3590, (312) 353-4669, e-mail: kaplan.phil@epa.gov.

Region VI: (Arkansas, Louisiana, New Mexico, Oklahoma, Texas) Joy Campbell, (6EN-XP), 1445 Ross Ave., 12th Floor, Suite 1200, Dallas, TX 75202, (214) 665-0836, e-mail: campbell.joy@epa.gov.

Region VII: (Iowa, Kansas, Missouri, Nebraska) Gary Bertram, (ARTD/TSPP), 901 N 5th St., Kansas City, KS 66101, (913) 551-7533, e-mail: bertram.gary@epa.gov.

Region VIII: (Colorado, Montana, North Dakota, South Dakota, Utah, Wyoming) Linda Walters, (8P-P3T), 999 18th St., Suite 300, Denver, CO 80202-2405, (303) 312-6385, e-mail: walters.linda@epa.gov.

Region IX: (Arizona, California, Hawaii, Nevada, American Samoa, Guam) Leif Magnuson (WST-7), 75 Hawthorne Ave., San Francisco, CA 94105, (415) 972-3286, e-mail: magnuson.leif@epa.gov.

Region X: (Alaska, Idaho, Oregon, Washington) Carolyn Gangmark, 01-085, 1200 Sixth Ave., Seattle, WA 98101, (206) 553-4072, e-mail: gangmark.carolyn@epa.gov.

XI. Regional Pollution Prevention Resource Exchange (P2Rx) Centers

Regions I-II (Connecticut, Maine, Massachusetts, New Hampshire, New York, Rhode Island, Vermont) P2Rx Center - NEWMOA, http://www.newmoa.org, 129 Portland St., Suite 602, Boston, MA 02114-2014, Contact: Andy Bray, telephone: (617) 367-8558, ext. 306.

Regions III-IV: (Alabama, Delaware, Florida, Georgia, Kentucky, Maryland, Mississippi, New Jersey, North Carolina, Pennsylvania, South Carolina, Tennessee, Virginia, West Virginia,) P2Rx Center - The Waste Reduction Resource Center - http://wrrc.p2pays.org - 1639 Mail Service Center, Raleigh, NC 27699-1639; telephone: (800) 476-8686.

Region V (Michigan, Minnesota, Illinois, Indiana, Ohio, Wisconsin) P2Rx Center - The Great Lakes Regional Pollution Prevention Roundtable (GLRPPR) -http://www.glrppr.org - IL Waste Management and Research Center, One E. Hazelwood Dr., Champaign, IL 61820, Contact: Deb Jacobson. telephone: (630) 472-5019.

Region VI (Arizona, Louisiana, New Mexico, Oklahoma, Texas) P2Rx Center - The Southwest P2 InfoSource - http://p2.utep.edu - Institute for Manufacturing and Materials Management, 500 W. University, Burgess Hall, Room 400, El Paso, TX 79968, Contact: Ed Gonzalez, telephone: (915) 747-6273.

Region VII (Iowa, Kansas, Missouri, Nebraska) P2Rx Center - The Pollution Prevention Regional Information Center - http://www.p2ric.org - 1313 Farnham, Suite 230, Omaha, NE 68182, Contact: Rick Yoder, telephone: (402) 595-2381.

Region VIII (Colorado, Montana, North Dakota, South Dakota, Utah, Wyoming) P2Rx Center - The Peaks to Prairies Pollution Prevention Information Center - http://peakstoprairies.org - MSU Extension Service, P.O. Box 173580, Bozeman, MO 59717, Contact: Mike Vogel, telephone: (406) 994-3451.

Region IX (Arizona, California, Hawaii, Nevada) P2Rx Center - The Western Regional Pollution Prevention Network - http://www.westp2net.org - 1735 N First St, Suite 275, San Jose, CA 95112, Contact: Isao Kobashi, telephone: (408) 441-1195 ext. 4450.

Region X (Arkansas, Idaho, Oregon, Washington) P2Rx Center - The Pacific Northwest Pollution Prevention Resource Center- http://www.pprc.org - 513 First Ave. West, Seattle, WA 98119, Contact: Chris Wiley, telephone: (206) 352-2050.

List of Subjects

Environmental protection, Grants.

Dated: April 8, 2002.
Stephen L. Johnson,
Assistant Administrator, Office of Prevention, Pesticides and Toxic Substances.

[FR Doc. 02-9223 Filed 4-15-02; 8:45 am]

BILLING CODE 6560-50-S